DEPARTMENT OF LABOR

OCCUPATIONAL SAFETY AND HEALTH ADMINISTRATION

[Docket No. OSHA-2009-0020]

Advisory Committee on Construction Safety and Health (ACCSH) and ACCSH Work Group; Meetings

AGENCY: Occupational Safety and Health Administration (OSHA), Department of Labor.

ACTION: Announcement of a meeting of the Advisory Committee on Construction Safety and Health (ACCSH) and ACCSH Work Group meetings.

SUMMARY: ACCSH will meet July 30 and 31, 2009, in Washington, DC. In conjunction with ACCSH's meeting its Work Groups will meet July 28 and 29, 2009.

DATES: ACCSH: ACCSH will meet from 8:30 a.m. to 4:30 p.m., Thursday, July 30, 2009, and from 8:30 a.m. to Noon, Friday, July 31, 2009.

ACCSH Work Groups: ACCSH Work Groups will meet Tuesday, July 28, and Wednesday, July 29, 2009. (For the Work Group meeting times, see the Work Group Schedule in the SUPPLEMENTARY INFORMATION section of this notice.)

Submission of comments, requests to speak and requests for special accommodation: Comments, requests to speak at the ACCSH meeting and requests for special accommodations for the ACCSH and ACCSH Work Group meetings must be submitted (postmarked, sent, transmitted) by July 17, 2009.

Submission of speaker presentations: Persons who request to speak at the ACCSH meeting must submit materials, written or electronic (e.g., PowerPoint), that they will present at the ACCSH meeting by July 23, 2009.

ADDRESSES: ACCSH and ACCSH Work Group Meetings: ACCSH and ACCSH Work Group meetings will be held in Rooms N-3437 A-C of the Frances Perkins Building, U.S. Department of Labor, 200 Constitution Avenue NW., Washington, DC 20210.

Submission of comments, requests to speak, and speaker presentations: Interested persons may submit comments, requests to speak at the ACCSH meeting, and speaker presentations using one of the following methods:

Electronically: You may submit materials, including attachments, electronically at http://www.regulations.gov, which is the Federal eRulemaking Portal. Follow the on-line instructions for making submissions.

Facsimile (FAX): If your submission, including attachments, does not exceed 10 pages, you may fax it to the OSHA Docket Office at (202) 693-1648.

Mail, hand delivery, express mail, messenger, or courier service: Submit three copies of your submissions to the OSHA Docket Office, Room N-2625, U.S. Department of Labor, 200 Constitution Avenue, NW., Washington, DC 20210; telephone (202) 693-2350 (TTY (877) 889-5627). Deliveries (hand deliveries, express mail, messenger, and courier service) are accepted during the Department of Labor's and OSHA Docket Office's normal business hours, 8:15 a.m.-4:45 p.m., E.T., weekdays.

Requests for special accommodations: Submit requests for special accommodations to Ms. Veneta Chatmon, OSHA, Office of Communications, Room N-3647, U.S. Department of Labor, 200 Constitution Avenue, NW., Washington, DC 20210; telephone (202) 693-1999; e-mail chatmon.veneta@dol.gov.

Instructions: All submissions, requests to speak, speaker presentations, and requests for special accommodations must include the Agency name (Occupational Safety and Health Administration) and the docket number for this meeting (Docket No. OSHA-2009-0020). Because of security-related procedures, submissions by regular mail may experience significant delays. For information about security procedures for submitting materials by hand delivery, express mail, messenger, or courier service, contact the OSHA Docket Office.

Comments, requests to speak, and speaker presentations, including personal information, are placed in the public docket without change and may be available online. Therefore, OSHA cautions against submitting personal information such as social security numbers and birthdates. For further information on submitting comments, requests to speak, speaker presentations, and requests for public accommodation, see the Public Participation information in the SUPPLEMENTARY INFORMATION section of this notice.

To read or download documents in the public docket for this ACCSH meeting, go to Docket No. OSHA-2009-0020 at http://www.regulations.gov. All documents in the public docket are listed in the http://www.regulations.gov index; however, some documents (e.g., copyrighted material) are not available to read on line or download from that Web page. All documents, including copyrighted material, are available for inspection and copying at the OSHA Docket Office. Please contact the OSHA Docket Office for assistance making submissions to or obtaining materials from the public docket.

FOR FURTHER INFORMATION CONTACT: For press inquiries: Ms. Jennifer Ashley, OSHA, Office of Communications, Room N-3647, U.S. Department of Labor, 200 Constitution Avenue, NW., Washington, DC 20210; telephone (202) 693-1999.

For general information about ACCSH and ACCSH meetings: Mr. Michael Buchet, OSHA, Directorate of Construction, Room N-3468, U.S. Department of Labor, 200 Constitution Avenue, NW., Washington, DC 20210; telephone (202) 693-2020; e-mail buchet.michael@dol.gov.

SUPPLEMENTARY INFORMATION:

ACCSH Meeting

ACCSH will meet Thursday, July 30, and Friday, July 31, 2009, in Washington, DC. The meeting is open to the public.

ACCSH is authorized to advise the Secretary of Labor and Assistant Secretary of Labor for Occupational Safety and Health in the formulation of standards affecting the construction industry and on policy matters arising in the administration of the safety and health provisions of the Contract Work Hours and Safety Standards Act (Construction Safety Act) (40 U.S.C. 3701 et seq.) and the Occupational Safety and Health Act of 1970 (29 U.S.C. 651 et seq.). (See also 29 CFR 1911.10 and 1912.3).

The agenda for this meeting includes:

• Remarks from the Office of the Assistant Secretary, Directorates and Office Directors;

• Construction Enforcement Overview and Field Perspective;

• Construction Stimulus Funding Update/Construction Data Overview;

• Stimulus Impact on Wind Power Generation;

• Work Group Reports, Work Group and Committee Administration.

For updates on the agenda for this meeting, contact Mr. Buchet. ACCSH meetings are transcribed and detailed minutes of the meetings are prepared. Meeting transcripts and minutes are included in the record of ACCSH meetings, which is available at http://www.regulations.gov. Work Group reports are also included in the ACCSH meeting record.

ACCSH Work Group Meetings

In conjunction with the ACCSH meeting, the following ACCSH Work Groups will meet on Tuesday, July 28, 2009:

• Diversity—Women in Construction—8:15 to 9:45 a.m.;

• Multilingual—10 to 11:30 a.m.;

• Residential Fall Protection—12:30 to 2 p.m.;

• Trenching—2:15 to 3:45 p.m.; and

• Powered Fastening Tools (Nail guns)—4 to 5:30 p.m.

The following ACCSH Work Groups will meet on Wednesday, July 29, 2009:

• Regulatory Compliance (Focused Inspections)—8:30 to 10 a.m.;

• ROPS (Roll Over Protective Structures)—10:15 to 11:45 a.m.;

• Silica—12:45 to 2:15 p.m.; and

• Education and Training (OTI)—2:30 to 4 p.m.

For additional information on ACCSH Work Group meetings or participating in them, please contact Mr. Buchet or look on the ACCSH page on OSHA's Web page at http://www.osha.gov.

Public Participation

ACCSH Meetings and ACCSH Work Group Meetings: ACCSH and ACCSH Work Group meetings are open to the public. Individuals needing special accommodations for ACCSH or ACCSH Work Group meetings please contact Ms. Chatmon (see ADDRESSES section).

Submission of written comments and requests to address ACCSH: Interested persons may submit comments, request to speak at ACCSH meetings, and speaker presentations (1) electronically, (2) by FAX, or (3) by hard copy (mail, hand delivery, express mail, messenger, and courier). All submissions must include the docket number for this ACCSH meeting (Docket No. OSHA-2009-0020). Individuals who want to address ACCSH at the meeting must submit their requests by July 17, 2009. The request must state the amount of time desired to speak, the interest the presenter represents (e.g., businesses, organizations, affiliations), if any, and a brief outline of the presentation. Speakers must submit a copy of any written or electronic (i.e. PowerPoint) material they plan to present by July 23, 2009.

Alternately at the ACCSH meeting, individuals may also request to address ACCSH by signing the public comment request sheet and listing the interests they represent, if any, and the topic(s) to be addressed. In addition, they must provide 20 hard copies of any materials, written or electronic, that they plan to present to ACCSH. Such requests may be granted at the ACCSH Chair's discretion and as time and circumstances permit.

Comments, requests to speak and speaker presentations are included without change in the meeting record and may be made available online at http://www.regulations.gov. Therefore, OSHA cautions interested parties about submitting certain personal information such as birthdates and social security numbers.

Access to the record of ACCSH meetings: To read or download submissions and the record of this ACCSH meeting, including Work Group reports, go to Docket No. OSHA-2009-0020 at http://www.regulations.gov. The meeting record and submissions for this meeting are listed in the http://www.regulations.gov index; however, some documents (e.g., copyrighted materials) are not publicly available through the Web page. The record and all submissions, including materials not available through http://www.regulations.gov are available for inspection and copying in the OSHA Docket Office (see ADDRESSES section).

Authority and signature: Mr. Jordan Barab, Acting Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3704), 29 CFR 1911 and 1912, and Secretary of Labor's Order No. 5-2007 (72 FR 31160).

Signed at Washington, DC this 6th day of July 2009.
Jordan Barab,
Acting Assistant Secretary of Labor for Occupational Safety and Health.

[FR Doc. E9-16310 Filed 7-9-09; 8:45 am]

BILLING CODE 4510-26-P